DEPARTMENT OF TREASURY

Information Quality Law Guidelines

AGENCY: Department of Treasury.

ACTION: Notice.

SUMMARY: The Department of Treasury is publishing this notice of availability of the Information Quality Law Guidelines on the agency's website at www.treas.gov/cio/informationquality.html to provide an opportunity for the public to comment by May 31, 2002.

EFFECTIVE DATE: April 30, 2002.

FOR FURTHER INFORMATION CONTACT: Patty Haverstick, Office of the Chief Information Officer, Department of Treasury, Washington, DC 20220. Telephone (202) 622-1525 or by email to prasubmission@do.treas.gov.

SUPPLMENTARY INFORMATION: On January 3, 2002, OMB published Guidelines for Ensuring and Maximizing the Quality, Objectivity, Utility, and Integrity of Information disseminated by Federal Agencies. These guidelines calls upon each agency to develop a draft report not later than May 1, 2002. Treasury Bureaus and Departmental Offices should use these guidelines to develop processes for disseminating quality information. The guidelines apply to information disseminated to the public in any medium including textual, graphic, narrative, numerical, or audiovisual forms. This means information that agencies post to the Internet, as well as Bureau and Departmental Offices sponsored distribution of information. They do not apply to opinions or Hyperlinks to information that others disseminate.

Dated: May 1, 2002.
W. Earl Wright, Jr.,
Chief, Management and Administrative Programs Office.

[FR Doc. 02-11268 Filed 5-6-02; 8:45 am]

BILLING CODE 4811-20-P